DEPARTMENT OF DEFENSE

Corps of Engineers, Department of the Army

Supplemental Notice of Intent To Prepare a Draft Environmental Impact Statement/Environmental Impact Report (EIS/EIR) for a Permit Application for the Berths 136-147 Terminal Improvement Project, Also Known as the TraPac Container Terminal in the Port of Los Angeles, Los Angeles County, CA

AGENCY: U.S. Army Corps of Engineers, DOD.

ACTION: Notice of Intent (NOI).

SUMMARY: The U.S. Army Corps of Engineers (Corps) Los Angeles District in conjunction with the Los Angeles Harbor Department (Port) is examining the feasibility of waterside, terminal and transportation improvements at Berths 136-147 in the Port of Los Angeles. The Corps is considering the Port's application for a Department of the Army permit under Clean Water Act section 404 and River and Harbor Act section 10 to conduct dredge and fill activities and construct one new wharf approximately 705 feet and seismically upgrade two wharves approximately 3,022 feet in length associated with the proposed project.

Major project elements to be covered in the Draft EIS/EIR include: wharf construction and landside improvements. The landside developments will include expansion, redevelopment and construction of marine terminal facilities, and transportation infrastructure improvements including construction of grade separations, and potential realignment of road and railways.

The primary Federal involvement is the discharge of dredge and/or fill materials within waters of the United States, work (e.g. dredging) and structures in or affecting navigable waters of the United States, and potential impacts on the human environment from such activities. Therefore, in accordance with the National Environmental Policy Act (NEPA), the Corps is requiring the preparation of an Environmental Impact Statement (EIS) prior to rendering a final decision on the Port's permit application. The Corps may ultimately make a determination to permit or deny the above project or permit or deny modified versions of the above project.

Pursuant to the California Environmental Quality Act (CEQA), the Port will serve as Lead Agency for the Preparation of an Environmental Impact Report (EIR). The Corps and the Port have agreed to jointly prepare a Draft EIS/EIR for the improvements at Berth 136-147 in order to optimize efficiency and avoid duplication. The Draft EIS/EIR is intended to be sufficient in scope to address both the Federal and the state and local requirements and environmental issues concerning the proposed activities and permit approvals.

FOR FURTHER INFORMATION CONTACT: Questions about the proposed action and Draft EIS/EIR can be answered by Dr. Joshua Burnam, Corps Project Manager, at (213) 452-3294. Comments shall be addressed to: U.S. Army Corps of Engineers, Los Angeles District, Regulatory Branch. Attn: File Number 2003-0-1142-JLB, P.O. Box 532711, Los Angeles, CA 90053-2325, and Dr. Ralph Appy, Director of Environmental Management, Port of Los Angeles, 425 S. Palos Verdes St., San Pedro, CA 90731.

SUPPLEMENTARY INFORMATION: 1. Project Site and Background Information. The proposed project is located in the northwestern portion of the Port of Los Angeles, adjacent to the San Pedro District of the City of Los Angeles, CA. The proposed project involves dredge and fill operations, new wharf construction, coupled with terminal expansion on adjacent areas of existing land, and improvement of transportation infrastructure at and adjacent to Berths 136-147.

The project's overall goals are to upgrade the container cargo handling efficiency at the Berths 136-147 Terminal, increase its cargo handling capacity, and to improve transportation infrastructure in order to accommodate forecasted and planned increases in the volume of containerized goods shipped through the Port. In order to meet these goals, the following objectives must be met:

• Establish needed container facilities that would maximize the use of existing waterways and integrate into the Port's overall utilization of available shoreline, while maintaining opportunities for the future integration with adjacent terminals;

• Construct sufficient container berthing and infrastructure capacity to accommodate foreseeable increases in containerized cargo volumes entering the Port;

• Create sufficient backland area for optimal container terminal operations including, storage, transport, and on/offloading of container ships in a safe and efficient manner;

• Provide access to rail and truck infrastructure locations in order to minimize surface transportation congestion or delays and promote transport to both local and distant cargo destinations; and

• Provide needed container terminal accessory buildings and structures to support containerized cargo handling requirements.

2. Changes Since the October 19th, 2003 NOI/NOP. Since the NOI/NOP process was completed, there have been some project changes for the EIS/EIR. These changes are as follows:

• The project was previously called Berths 136-147. It is now identified as Berths 136-149 (Figure 1).

• The size of the Terminal would increase from 176 acres to 251 acres by the year 2030 (previously, it was to increase to 244 acres). With the additional 7 acres of terminal area, there would be some additional traffic and air quality impacts.

• Projects associated with Phase I were previously to be completed by the year 2010 and Phase II by 2025. Now Phase I projects would be completed by 2015 and Phase II by 2030.

• Harry Bridges Boulevard will only be moved 50 feet to the north instead of 580 feet to the north. Because of this change, there is no need to construct a noise buffer (berm) between Harry Bridges Boulevard and “C” Street residents. There would now be an approximately 25-acre landscaped area between Harry Bridges Boulevard and “C” Street residents between Figueroa Street and Lagoon Avenue. This new project component would reduce air quality, health risk, noise, and aesthetic impacts on the adjoining Wilmington residents.

• There are presently 13 cranes along Berths 136-149. Some cranes will be replaced and there will be a net reduction of one crane (12 total) after the proposed projects are completed. This would reduce aesthetic impacts.

• 10 acres of additional backland would be created for container terminal use by filling in the 10-acre Northwest Slip. This project would require 1,200,000 cubic yards (cy) of fill. A new 400-foot wharf (44,332 square feet) would be built at an adjoining new berth created by filling the Northwest Slip. The fill slope would be covered with 50,000 cy of rocky dike, 12,000 cy of fill would be placed behind the dike, and 397 concrete piles would be installed. Approximately 3,000 cy would be dredged as part of this project. This project component is part of the total 251-acre Terminal project that would be completed by the year 2030. This project component would have some water quality and marine biology impacts.

• Instead of constructing two grade separations at Neptune Avenue and Avalon Boulevard as originally envisioned there would be two other transportation projects completed. A Fries Avenue Grade Separation (overpass over the rail tracks) would be built (not part of the TraPac Terminal project). Most of the TraPac cargo would be moved over this new grade separation. Also as part of the proposed project, the “C” Street/Figueroa Street interchange would be redesigned to include an elevated ramp from Harry Bridges Boulevard to the I-110 Freeway, over John S. Gibson Boulevard. An additional extension would connect from Figueroa Street to the new elevated ramp over Harry Bridges Boulevard. These transportation projects would reduce traffic and air quality impacts.

Project changes are being analyzed through the Draft EIR/EIS process and no new potentially significant impacts not previously identified in the initial scoping notice are anticipated as a result of the changes. For example, changes include adding 7 acres of terminal area, which would result in some additional traffic and air quality impacts. However, air quality and traffic were identified as potentially significant impacts in the 2003 NOP/NOI. Therefore, air quality and traffic impacts are being analyzed as part of the Draft EIR/EIS. Some changes may also result in fewer impacts than anticipated as part of the 2003 NOP/NOI. For example, eliminating the noise buffer between Harry Bridges Boulevard and “C” Street and building instead a 25-acre landscaped area is anticipated to result in fewer impacts than discussed in the NOP/NOI. All project changes will be discussed and analyzed in the EIR/EIS.

3. Issues. There are several potential environmental issues that will be addressed in the EIS/EIR. Additional issues may be identified during the scoping process. Issues initially identified as potentially significant include:

(a) Geological issues, including dredging and stabilization of fill areas in an area of known seismic activity;

(b) Impacts to hydrology;

(c) Impacts to air quality;

(d) Impacts to traffic, including marine navigation and ground transportation;

(e) Potential for noise impacts;

(f) Impacts to public utilities and services;

(g) Potential impacts to aesthetic resources, including light and glare;

(h) Potential impacts on public health and safety;

(i) Cumulative impacts; and

(j) Disposal of dredged materials.

4. Alternatives. Alternatives initially being considered for the proposed improvement project include the following:

(a) Alternate location(s) for the Terminal Improvements (within the State or within the Ports of Los Angeles/Long Beach).

(b) Development of new landfills for a container terminal.

(c) Non-containerized use of terminal (i.e., lumber, autos).

(d) Non-shipping use i.e., park, cruise terminal, commercial development, empty container storage, etc.

(e) No Federal action (No wharf construction or dredging—construction of only backlands developments for Phases I and II) with and without Harry Bridges being relocated.

(f) Larger facility (14-acre fill for more storage area).

(g) Reduce Wharf (reduced fill—reduction in rip-rap, pilings, and dredging).

(h) Proposed project without Harry Bridges Boulevard being relocated.

(i) No Project (no physical changes).

5. Comment Process. All comments received as part of the 2003 scoping period will remain part of the administrative record and be addressed in the Draft EIR/EIS. A new public scoping meeting will not be held. Written comments to the Corps and Port regarding the Project changes will be received until April 28, 2006. Written comments should be addressed to the address below:

U.S. Army Corps of Engineers, Los Angeles District, Regulatory Branch and the Los Angeles Harbor Department, c/o Dr. Joshua Burnam and Dr. Ralph G. Appy, Attn: 2003-0-1142-JLB, P.O. Box 532711, Los Angeles, California 90053-2325.

Parties interested in being added to the Corps' electronic mail notification list for the Port of Los Angeles can register at: http://www.spl.usace.army.mil/regulatory/register.html. This list will be used in the future to notify the public about scheduled hearings and availability of future public notices.

6. Availability of the Draft EIS/EIR. The joint lead agencies expect the Draft EIS/EIR to be made available to the public in Summer 2006. A public hearing will be held during the public comment period for the Draft EIS/EIR.

Alex C. Dornstauder,
Colonel, U.S. Army, District Engineer.

[FR Doc. E6-4904 Filed 4-5-06; 8:45 am]

BILLING CODE 3710-92-P